DEPARTMENT OF DEFENSE

Department of the Navy

Notice of Intent To Prepare a Supplemental Environmental Impact Statement for a Live-Fire Training Range Complex on Guam To Support the Guam Military Relocation

AGENCY: Department of the Navy, DoD.

ACTION: Notice.

SUMMARY: Pursuant to Section 102(2)(c) of the National Environmental Policy Act (NEPA) of 1969, as implemented by the Council on Environmental Quality Regulations (40 CFR parts 1500-1508), the Department of the Navy (DoN) announces its intent to prepare a Supplemental Environmental Impact Statement (SEIS) to evaluate the potential environmental consequences that may result from construction and operation of a live-fire training range complex and associated infrastructure on Guam to support the Guam Military Relocation. The SEIS supplements the Final EIS for the “Guam and Commonwealth of the Northern Mariana Islands (CNMI) Military Relocation; Relocating Marines from Okinawa, Visiting Aircraft Carrier Berthing, and Army Air and Missile Defense Task Force” dated July 2010.

Pursuant to 40 CFR 1502.9(c), a SEIS is being prepared for the limited purpose of supplementing the 2010 Final EIS regarding the establishment of a live-fire training range complex on Guam.

The proposed action that will be analyzed in the SEIS is to construct and operate a live-fire training range complex that allows for simultaneous use of all firing ranges to support training and operations on Guam for the relocated Marines. The DoN has preliminarily identified five alternatives for the range complex: two are adjacent to Route 15 in northeastern Guam, and three are located at or immediately adjacent to the Naval Magazine (NAVMAG), also known as the Naval Munitions Site. The SEIS will also consider the No Action Alternative.

The purpose and need for the proposed action is to ensure that the relocated Marines are organized, trained, and equipped as mandated in section 5063 of Title 10 of the United States Code, and to satisfy individual live-fire training requirements as described in the Guam and CNMI Military Relocation Final EIS and associated Record of Decision (ROD).

The live-fire training range complex will consist of a Known Distance (KD) rifle range, KD pistol range, Modified Record of Fire Range, nonstandard small arms range, Multipurpose Machine Gun range, and a hand grenade range. The proposed action also includes associated roadways and supporting infrastructure.

The DoN encourages government agencies, private-sector organizations, and the general public to participate in the NEPA process for the training range complex. Because the Federal Aviation Administration (FAA) will have to approve airspace associated with the training range complex at any of the five preliminary alternatives being considered, the DoN will invite the FAA to participate as a cooperating agency in the preparation of the SEIS.

The DoN invites comments on the proposed scope and content of the SEIS from all interested parties. Comments on the scope of the SEIS may be provided by mail and through the SEIS Web site at: http://bit.ly/Guam_LFTRC_SEIS. In addition, the DoN will conduct public open-house scoping meetings on Guam to obtain comments on the scope of the SEIS and to identify specific environmental concerns or topics for consideration in the SEIS. Meetings will be held at the following locations and times:

Saturday, March 17, 2012, from 1 p.m. to 5 p.m., University of Guam Field House, Mangilao, Guam;

Monday, March 19, 2012, from 5 p.m. to 9 p.m., Southern High School, Santa Rita, Guam;

Tuesday, March 20, 2012, from 5 p.m. to 9 p.m., Yigo Gymnasium, Yigo, Guam.

Interested agencies, individuals, and groups unable to attend the open-house scoping meetings are encouraged to submit comments by April 6, 2012. Mailed comments should be postmarked no later than April 6, 2012, Chamorro Standard Time (ChST) to ensure they are considered. Mail comments to: Joint Guam Program Office Forward, P.O. 153246, Santa Rita, GU 96915.

FOR FURTHER INFORMATION CONTACT: Ms. Catherine Norton, Public Affairs Officer, NAVFAC Marianas; phone (671) 349-4053; email: Catherine.norton@fe.navy.mil.

SUPPLEMENTARY INFORMATION: The DoN's proposed action is to construct and operate a live-fire training range complex and associated infrastructure in support of the Guam Military Relocation.

A ROD for the Guam and CNMI Military Relocation Final EIS was signed on September 20, 2010, and published in the Federal Register on September 30, 2010 (Volume 75, Number 189, Page 60438). This ROD deferred a decision on the specific site for a live-fire training range complex due to the significant number of public comments during the EIS process regarding the DoN's preferred alternative located on areas southeast of Andersen South referred to in the Guam and CNMI Military Relocation Final EIS as the Route 15 area. Two primary concerns were raised over this location: (1) The use of non-DoD property, and (2) the impact on the community's ability to access the cultural sites of Pagat Village and Pagat Cave. In response to comments and concerns raised by the Government of Guam, Guam Legislature, and other interested parties about locating Surface Danger Zones for the ranges over Pagat Village and Pagat Cave, in January 2011, the Under Secretary of the Navy committed that the DoN would conduct training activities in such a manner that would not impact access to Pagat Village and Cave via the existing trail. The DoN further committed to 24/7 access to Pagat Village and Cave during National Historic Preservation Act consultation with the Guam State Historic Preservation Office and other consulting parties as documented in a Programmatic Agreement signed in March 2011.

Since that time, the DoN has been evaluating options to satisfy this commitment while also meeting the training requirements of the relocating Marines. This analysis resulted in the application of a probabilistic methodology which takes into account site-specific conditions and reduced the boundaries of the training range complex while providing the same margin of safety. The DoN then reviewed previously discarded sites to determine if any of those sites might be a reasonable alternative with application of the probabilistic methodology (i.e., the site-specific methodology). As a result of this review, the DoN has preliminarily identified five alternatives for the range complex: Two are adjacent to Route 15 in northeastern Guam, and three are located at or immediately adjacent to the NAVMAG, also known as the Naval Munitions Site. The SEIS will also consider the No Action Alternative.

Under the No Action Alternative, Marine Corps units would not be provided live-fire training ranges. The No Action Alternative is not a reasonable alternative as it would not satisfy the need for training requirements for the relocated Marines as mandated in section 5063 of Title 10 of the United States Code, or satisfy individual live-fire training requirements as described in the Guam and CNMI Military Relocation Final EIS and ROD. NEPA requires the lead agency to consider the alternative of no action as a baseline for comparison of environmental impacts regardless of whether or not it would meet the purpose and need of the proposed action. The SEIS will evaluate environmental effects associated with: Geology and soils; water resources, which may include water, floodplains, wetlands, wild and scenic rivers; terrestrial biology; threatened and endangered species and their designated critical habitat (if applicable); air quality; noise; airspace; cultural resources; socioeconomics; environmental justice (minority and low income populations and children); land use and coastal zone management federal consistency; transportation; hazardous materials/hazardous waste/installation restoration; public health and safety; and other environmental concerns as identified through scoping. The analysis will include an evaluation of direct and indirect impacts, and will account for cumulative impacts from other relevant activities in the area of Guam. Additionally, the DoN will undertake any consultations required by all applicable laws or regulations.

No decision will be made to implement any alternative until the SEIS process is completed and a ROD is signed by the Assistant Secretary of the Navy (Energy, Installations and Environment) or designee.

By publishing this Notice, the DoN is initiating a scoping process to identify community concerns and issues that should be addressed in the SEIS. Federal, Territory, and local agencies, and interested parties and persons are encouraged to provide comments on the proposed action that clearly describe specific issues or topics of environmental concern that the commenter believes the DoN should consider. In addition to this Notice, an information report is available for review on the project Web site (see link below). This information report provides additional background information on the environmental planning efforts which have occurred since the Final EIS ROD was signed in September 2010. Additional information will be made available on the project Web site as it becomes available.

Comments may be submitted in writing at one of the public scoping meetings, through the project Web site at: http://bit.ly/Guam_LFTRC_SEIS or may be mailed to: Joint Guam Program Office Forward, P.O. 153246, Santa Rita, GU 96915.

To ensure consideration, all written comments on the scope of the SEIS must be submitted or postmarked by April 6, 2012 ChST.

Dated: February 3, 2012.
J.M. Beal,
Lieutenant Commander, Judge Advocate General's Corps, U.S. Navy, Federal Register Liaison Officer.

[FR Doc. 2012-2949 Filed 2-8-12; 8:45 am]

BILLING CODE 3810-FF-P